ENVIRONMENTAL PROTECTION AGENCY

[OPPTS-51957A; FRL-6766-1]

Premanufacture Notice for Certain New Chemicals; Extension of Review Period

AGENCY: Environmental Protection Agency (EPA).

ACTION: Notice.

SUMMARY: This notice announces EPA's extension of the review periods for an additional 90-days for the consolidated premanufacture notice (PMN) P-01-46 through P-01-51, under the authority of section 5(c) of the Toxic Substances Control Act (TSCA). The review periods will now expire on April 10, 2001.

FOR FURTHER INFORMATION CONTACT: For general information contact: Barbara Cunningham, Director, Environmental Assistance Division, Office of Pollution Prevention and Toxics (7401), Environmental Protection Agency, Ariel Rios Bldg., 1200 Pennsylvania Ave., NW., Washington, DC 20460; telephone number: (202) 554-1404; e-mail address: TSCA-Hotline@epa.gov.

For technical information contact: Darlene Jones, New Chemicals Notice Management Branch, Chemical Control Division (7405), Office of Pollution Prevention and Toxics, Environmental Protection Agency, Ariel Rios Bldg., 1200 Pennsylvania Ave., NW., Washington, DC 20460; telephone number: (202) 260-2279; e-mail address: Darlene Jones@epa.gov.

SUPPLEMENTARY INFORMATION:

I. Background

On October 13, 2000, EPA received the consolidated PMN P-01-46 through P-01-51 for new chemical substances, identified as modified alkyl esters. The submitter claimed the company name, specific chemical identity, production volume, use information, process information, and other information to be confidential business information. Notice of receipt was published in the Federal Register on November 9, 2000, (65 FR 67367) (FRL-6754-8). Prior to this extension, the 90-day review periods were scheduled to expire on January 10, 2001.

II. What Action is the Agency Taking?

Pursuant to section 5(c) of TSCA, EPA is extending the review periods for PMN P-01-46 through P-01-51 an additional 90 days. As extended, the review periods for this consolidated PMN will now expire on April 10, 2001.

III. What is the Agency's Authority for Taking this Action?

EPA finds that there is good cause to extend the consolidated PMN review periods. Based on its analysis, EPA may need to regulate the substances submitted for review in this consolidated PMN under section 5 of TSCA. The Agency requires an extension of the review periods, as authorized by section 5(c) of TSCA, to investigate further potential risk, to examine its regulatory options, and to prepare the necessary documents, should regulatory action be required.

IV. How Can I Get Additional Information, Including Copies of this Document or Other Related Documents?

1. Electronically. You may obtain electronic copies of this document from the EPA Internet Home Page at http://www.epa.gov/. To access this document, on the Home Page select “Laws and Regulations,” “Regulations and Proposed Rules,” and then look up the entry for this document under the “Federal Register-Environmental Documents.” You can also go directly to the Federal Register listings at http://www.epa.gov/fedrgstr/.

2. In person. The Agency has established an official record for this action under docket control number OPPTS-51957A. PMNs are available for public inspection in the TSCA Nonconfidential Information Center, North East Mall Rm. B-607, Waterside Mall, 401 M St., SW., Washington, DC. The Center is open from noon to 4 p.m., Monday through Friday, excluding legal holidays. The telephone number of the Center is (202) 260-7099.

List of Subjects

Environmental protection, extension of premanufacture notice review periods.

Dated: January 10, 2001.
Flora Chow,
Chief New Chemicals Notice Management Branch, Office of Pollution Prevention and Toxics.

[FR Doc. 01-2048 Filed 1-22-01; 8:45 a.m.]

BILLING CODE 6560-50-S